DEPARTMENT OF DEFENSE

Department of the Navy

Notice of Intent To Prepare a Supplement to the Draft Environmental Impact Statement/Overseas Environmental Impact Statement for Military Readiness Activities in the Northwest Training and Testing Study Area

AGENCY: Department of the Navy, DoD.

ACTION: Notice.

SUMMARY: The Department of the Navy (DoN) announces its intent to prepare a Supplement to the Draft Environmental Impact Statement (DEIS)/Overseas Environmental Impact Statement (OEIS) for the Northwest Training and Testing (NWTT) Study Area. This Supplemental DEIS/OEIS will focus on substantial changes in the proposed action and significant new information relevant to environmental concerns per 40 Code of Federal Regulations CFR 1502.9. The Supplemental DEIS/OEIS will also provide additional updated information to further the purposes of the National Environmental Policy Act (NEPA).

SUPPLEMENTARY INFORMATION: Pursuant to section 102(2)(c) of the NEPA, regulations implemented by the Council on Environmental Quality (40 CFR parts 1500-1508), and Presidential Executive Order 12114, the DoN announced its intent to prepare an EIS/OEIS for the NWTT Study Area in the Federal Register (FR) on February 27, 2012 (77 FR 11497), and invited the public to comment on the scope of the EIS/OEIS. A Draft EIS/OEIS was subsequently released on January 24, 2014 (79 FR 4158), in which the potential environmental effects associated with military readiness training and research, development, test, and evaluation activities (training and testing) conducted within the NWTT Study Area were evaluated.

Since the release of the DEIS/OEIS on January 24, 2014, the DoN has determined that a Supplemental DEIS/OEIS is warranted for two reasons. First, one activity, known as Tracking Exercises—Maritime Patrol (Extended Echo Ranging Sonobuoys), substantially changes the type and number of sonobuoys to be used. This change in the proposed action warrants preparation of a Supplemental DEIS/OEIS under 40 CFR 1502.9(c)(1)(i). Second, new information relevant to air quality emissions of inland water vessel movements associated with Maritime Security Operations warrants further consideration and preparation of an Supplemental DEIS/OEIS under 40 CFR 1502.9(c)(1)(ii).

All public comments received during the DEIS/OEIS comment period (January 24, 2014, through April 15, 2014) are still valid and are being considered in the Final EIS/OEIS for this action. Previously submitted comments need not be resubmitted. The Supplemental DEIS/OEIS is expected to be available in early December 2014. A Notice of Availability of the Supplemental DEIS/OEIS will be published in the Federal Register at that time, and the Supplemental DEIS/OEIS will be released for a public comment period of 45 days. No decision will be made to implement any alternative in the NWTT Study Area until the NEPA process is complete and a Record of Decision is signed by the DoN.

FOR FURTHER INFORMATION CONTACT: Naval Facilities Engineering Command Northwest, Attention: Ms. Kimberly Kler—NWTT EIS/OEIS Project Manager, 1101 Tautog Circle, Suite 203, Silverdale, WA 98315-1101.

Authority: 35 U.S.C. 207, 37 CFR part 404.

Dated: October 20, 2014.
N.A. Hagerty-Ford,
Commander, Judge Advocate General's Corps, U.S. Navy, Federal Register Liaison Officer.

[FR Doc. 2014-25316 Filed 10-23-14; 8:45 am]

BILLING CODE 3810-FF-P